ENVIRONMENTAL PROTECTION AGENCY

[FRL -7063-6]

National Wastewater Management Excellence Awards

AGENCY: Environmental Protection Agency (EPA).

ACTION: Notice: announcement of EPA's 2001 National Wastewater Management Excellence Awards Presentation at the Water Environment Federation's Technical Conference (WEFTEC).

SUMMARY: The Environmental Protection Agency will recognize municipalities and industries for outstanding and innovative technological achievements in wastewater treatment and pollution abatement programs at the annual National Wastewater Management Excellence Awards ceremony during the Water Environment Federation's Technical Conference (WEFTEC) in Atlanta, Georgia. We are recognizing programs and projects in operations and maintenance, biosolids management, pretreatment and combined sewer overflow controls. This action also announces the 2001 national awards winners.

DATES: Monday, October 15, 2001, 11:30 am to 1 pm.

ADDRESSES: The national awards presentation ceremony will be held at the Georgia World Congress Center, 285 International Boulevard, NW, Atlanta, Georgia.

FOR FURTHER INFORMATION CONTACT: Maria E. Campbell at the U.S. Environmental Protection Agency, Office of Wastewater Management, Municipal Assistance Branch, 1200 Pennsylvania Avenue NW., (4204-M), Ariel Rios Building, Washington, DC 20460, (202) 564-0628, or campbell.maria@epa.gov.

SUPPLEMENTARY INFORMATION: The National Wastewater Management Excellence Awards program is authorized under section 501 (a) and (e) of the Clean Water Act. The awards program provides national recognition and heightens overall public support of programs developed to protect the public's health and safety and the nation's water quality. State water pollution control agencies and EPA regional offices make recommendations to headquarters for the national awards. Programs being recognized are in compliance with applicable water quality requirements and have a satisfactory record with respect to environmental quality. Municipalities and industries are recognized for their demonstrated achievements through the following:

(1) Outstanding operations and maintenance practices at publicly owned wastewater treatment facilities;

(2) Exemplary biosolids operating projects, and special biosolids management achievements;

(3) Municipal implementation and enforcement of local pretreatment programs; and,

(4) Combined sewer overflow control programs. Winners and categories for the EPA's 2001 National Wastewater Management Excellence Awards program are as follows:

Category

Operations and Maintenance Awards

First Place

Littleton/Englewood Wastewater Treatment Plant, Englewood, Colorado—Large Advanced Category

Metropolitan Council Stillwater Wastewater Treatment Plant, Oak Park Heights, Minnesota—Medium Advanced Category (tie)

City of Rutland Wastewater Treatment Facility, Rutland, Vermont—Medium Advanced Category (tie)

Denver S.E. Suburban Water & Sewer District (Pinery Water Reclamation Plant), Parker, Colorado Small—Advanced Category

Lebanon Wastewater Treatment Facility, City of Lebanon, New Hampshire—Medium Secondary Category

Troy/Jay Wastewater Treatment Facility, Troy, Vermont—Small Secondary Category

South Tahoe Public Utility District, South Lake Tahoe, California—Large Non-discharging Category

Pickaway Correctional Institution Wastewater Treatment Plant, Orient, Ohio—Most Improved Plant

Ohio EPA Compliance Assistance Unit—Section 104(g) Trainer for the Pickaway Correctional Institution Wastewater Treatment Plant

Second Place

Central Regional Wastewater System, Grande Prairie, Texas—Large Advanced Category

Fairmont Wastewater Treatment Plant-Fairmont Sanitary Sewer Board, Fairmont, West Virginia—Medium Advanced Category

County of Berks Welfare Tract Sewage Treatment Plant, Bern Township, Pennsylvania—Small Advanced Category

Elk River Wastewater Treatment Plant, Elk River, Minnesota—Medium Secondary Category

Isle Royale National Park, Rock Harbor Wastewater Treatment Facility, Houghton, Michigan—Small Secondary Category

Orange County South Water Reclamation Facility, Orlando, Florida—Large Non-discharging Category

Bancroft Wastewater Treatment Facility Village of Bancroft, Nebraska—Most Improved Plant

Russell Irwin, Nebraska Department of Environmental Quality—Section 104(g) Trainer for the Village of Bancroft Wastewater Treatment Facility

Exemplary Biosolids Management Awards

First Place

Anne Arundel County, Maryland Department of Public Works, Annapolis, Maryland—Large Operating Projects

City of Gresham Wastewater Treatment Plant, Gresham, Oregon—Small Operating Projects

Second Place

San Jose/Santa Clara Water Pollution Control Plant, San Jose/Santa Clara, California—Large Operating Projects

Special Award

Climax Molybdenum Company, and the resort communities of Breckenridge, Frisco, Dillon, and Silverthorne, Colorado—For outstanding use of biosolids to help rehabilitate a large-scale high altitude mine site.

Hawk Ridge Compost Facility, Unity, Maine—Private public partnership for biosolids and other organic by-product composting.

Pretreatment Awards

First Place

Central Contra Costa Sanitary District, Martinez, California—0-25 Significant Industrial Users (SIUs)

Clean Water Services, Hillsboro, Oregon 26-100 SIUs

Second Place

Goleta Sanitary District, Goleta, California—0-25 SIUs

Camden County Municipal Utilities Authority, Camden, New Jersey—26-100 SIUs

Combined Sewer Overflow Controls Awards

First Place

Columbus Water Works, Columbus, Georgia—Municipal

Second Place

City of Brewer, Brewer, Maine—Municipal

Dated: September 14, 2001.
Alfred Lindsey,
Acting Director, Office of Wastewater Management.

[FR Doc. 01-23752 Filed 9-21-01; 8:45 am]

BILLING CODE 6560-50-P